DEPARTMENT OF LABOR

Employment and Training Administration

[TA-W-55,785]

Polysort, LLC, Akron, OH; Notice of Termination of Investigation

Pursuant to Section 221 of the Trade Act of 1974, an investigation was initiated on October 13, 2004 in response to a worker petition which was filed by a company official on behalf of workers at Polysort, LLC, Akron, Ohio.

The petitioner has requested that the petition be withdrawn. Consequently, the investigation has been terminated.

Signed in Washington, DC this 19th day of October, 2004.
Richard Church,
Certifying Officer, Division of Trade Adjustment Assistance.

[FR Doc. E4-3027 Filed 11-4-04; 8:45 am]

BILLING CODE 4510-30-P